DEPARTMENT OF ENERGY

Federal Energy Regulatory Commission

Combined Notice of Filings #1

Take notice that the Commission received the following exempt wholesale generator filings:

Docket Numbers: EG22-61-000.

Applicants: MS Sunflower Project Company, LLC.

Description: Notice of Self-Certification of Exempt Wholesale Generator Status of MS Sunflower Project Company, LLC.

Filed Date: 3/1/22.

Accession Number: 20220301-5366.

Comment Date: 5 p.m. ET 3/22/22.

Take notice that the Commission received the following electric rate filings:

Docket Numbers: ER10-1410-005; ER10-1823-003; ER16-1750-008; ER16-2601-006; ER17-2292-006; ER17-2381-005; ER19-1656-005; ER20-2123-003; ER20-2768-003.

Applicants: Greensville County Solar Project, LLC, Hardin Solar Energy LLC, Wilkinson Solar LLC, Scott-II Solar LLC, Southampton Solar, LLC, Summit Farms Solar, LLC, Eastern Shore Solar LLC, Dominion Energy Marketing, Inc., Virginia Electric and Power Company.

Description: Notice of Change in Status of Virginia Electric and Power Company, et al.

Filed Date: 3/1/22.

Accession Number: 20220301-5265.

Comment Date: 5 p.m. ET 3/22/22.

Docket Numbers: ER16-2019-006.

Applicants: Five Points Solar Park LLC.

Description: Compliance filing: Five Points Solar Park LLC Change in Status to be effective 10/1/2021.

Filed Date: 3/2/22.

Accession Number: 20220302-5170.

Comment Date: 5 p.m. ET 3/23/22.

Docket Numbers: ER20-1996-003; ER21-1187-002; ER21-1188-002; ER21-1370-003; ER21-1916-001.

Applicants: Assembly Solar III, LLC, Assembly Solar II, LLC, Prairie State Solar, LLC, Dressor Plains Solar, LLC, Assembly Solar I, LLC.

Description: Notice of Change in Status of Assembly Solar I, LLC, et al.

Filed Date: 3/1/22.

Accession Number: 20220301-5380.

Comment Date: 5 p.m. ET 3/22/22.

Docket Numbers: ER21-2445-001.

Applicants: Glacier Sands Wind Power, LLC.

Description: Notice of Non-Material Change in Status of Glacier Sands Wind Power, LLC.

Filed Date: 3/1/22.

Accession Number: 20220301-5376.

Comment Date: 5 p.m. ET 3/22/22.

Docket Numbers: ER21-2515-002.

Applicants: Dominion Energy South Carolina, Inc.

Description: Compliance filing: Order 676-J Compliance Filing to be effective 12/31/9998.

Filed Date: 3/2/22.

Accession Number: 20220302-5061.

Comment Date: 5 p.m. ET 3/23/22.

Docket Numbers: ER21-2652-003.

Applicants: Caddo Wind, LLC.

Description: Notice of Non-Material Change in Status of Caddo Wind, LLC.

Filed Date: 3/1/22.

Accession Number: 20220301-5257.

Comment Date: 5 p.m. ET 3/22/22.

Docket Numbers: ER22-477-001.

Applicants: Midcontinent Independent System Operator, Inc.

Description: Tariff Amendment: 2022-03-02_Deficiency Response to Attachment GGG MHVDC Self-Funding to be effective 2/2/2022.

Filed Date: 3/2/22.

Accession Number: 20220302-5194.

Comment Date: 5 p.m. ET 3/23/22.

Docket Numbers: ER22-1140-000.

Applicants: Black Hills Colorado Electric, LLC.

Description: § 205(d) Rate Filing: Filing of Jurisdictional Agreements to be effective 12/31/9998.

Filed Date: 3/1/22.

Accession Number: 20220301-5262.

Comment Date: 5 p.m. ET 3/22/22.

Docket Numbers: ER22-1141-000.

Applicants: Black Hills Colorado Electric, LLC.

Description: § 205(d) Rate Filing: Filing of Jurisdictional Agreements—Wholesale Distribution Servs Rate Scheds to be effective 5/1/2022.

Filed Date: 3/1/22.

Accession Number: 20220301-5274.

Comment Date: 5 p.m. ET 3/22/22.

Docket Numbers: ER22-1142-000.

Applicants: Versant Power.

Description: Compliance filing: Order No. 676-J Compliance Filing and Request for Waivers to be effective 12/31/9998.

Filed Date: 3/2/22.

Accession Number: 20220302-5040.

Comment Date: 5 p.m. ET 3/23/22.

Docket Numbers: ER22-1145-000.

Applicants: Black Hills Colorado Electric, LLC.

Description: § 205(d) Rate Filing: Filing of Jurisdictional Agreements to be effective 12/31/9998.

Filed Date: 3/2/22.

Accession Number: 20220302-5062.

Comment Date: 5 p.m. ET 3/23/22.

Docket Numbers: ER22-1146-000.

Applicants: Midcontinent Independent System Operator, Inc.

Description: § 205(d) Rate Filing: 2022-03-02_SA 1756 METC-Consumers Energy 15th Rev GIA (G479B) to be effective 2/1/2022.

Filed Date: 3/2/22.

Accession Number: 20220302-5070.

Comment Date: 5 p.m. ET 3/23/22.

Docket Numbers: ER22-1147-000.

Applicants: Idaho Power Company.

Description: § 205(d) Rate Filing: Section 4.2—Sliding Yearly Update to be effective 5/6/2022.

Filed Date: 3/2/22.

Accession Number: 20220302-5104.

Comment Date: 5 p.m. ET 3/23/22.

Docket Numbers: ER22-1148-000.

Applicants: Arizona Public Service Company.

Description: Compliance filing: OATT Modifications—Pursuant to Order 676-J to be effective 12/31/9998.

Filed Date: 3/2/22.

Accession Number: 20220302-5110.

Comment Date: 5 p.m. ET 3/23/22.

Docket Numbers: ER22-1149-000.

Applicants: Nevada Power Company.

Description: Compliance filing: Order No. 676-J Compliance to be effective N/A.

Filed Date: 3/2/22.

Accession Number: 20220302-5113.

Comment Date: 5 p.m. ET 3/23/22.

Docket Numbers: ER22-1150-000.

Applicants: ISO New England Inc.

Description: Compliance filing: ISO-NE; Revisions to Schedule 24 to Comply with Order No. 676-J to be effective 12/31/9998.

Filed Date: 3/2/22.

Accession Number: 20220302-5121.

Comment Date: 5 p.m. ET 3/23/22.

Docket Numbers: ER22-1151-000.

Applicants: Alabama Power Company, Georgia Power Company, Mississippi Power Company.

Description: Compliance filing: Alabama Power Company submits tariff filing per 35: OATT Attachment O Order No. 676-J Cyber and PFV Compliance Filing to be effective 12/31/9998.

Filed Date: 3/2/22.

Accession Number: 20220302-5125.

Comment Date: 5 p.m. ET 3/23/22.

Docket Numbers: ER22-1152-000.

Applicants: American Transmission Systems, Incorporated, PJM Interconnection, L.L.C.

Description: § 205(d) Rate Filing: American Transmission Systems, Incorporated submits tariff filing per 35.13(a)(2)(iii): ATSI submits one ECSA, SA No. 6298 to be effective 5/2/2022.

Filed Date: 3/2/22.

Accession Number: 20220302-5136.

Comment Date: 5 p.m. ET 3/23/22.

Docket Numbers: ER22-1153-000.

Applicants: Mid-Atlantic Interstate Transmission, LLC, PJM Interconnection, L.L.C.

Description: § 205(d) Rate Filing: Mid-Atlantic Interstate Transmission, LLC submits tariff filing per 35.13(a)(2)(iii): MAIT submits seven ECSAs, SA Nos. 6292-6297 and 6299 to be effective 5/2/2022.

Filed Date: 3/2/22.

Accession Number: 20220302-5138.

Comment Date: 5 p.m. ET 3/23/22.

Docket Numbers: ER22-1154-000.

Applicants: PJM Interconnection, L.L.C.

Description: Tariff Amendment: Notice of Cancellation of ISA, Service Agreement No. 5235; Queue No. AB2-068 to be effective 5/22/2022.

Filed Date: 3/2/22.

Accession Number: 20220302-5144.

Comment Date: 5 p.m. ET 3/23/22.

Docket Numbers: ER22-1155-000.

Applicants: Midcontinent Independent System Operator, Inc.

Description: Compliance filing: 2022-03-02_Attachment LL CMP NAESB WEQ Standards Compliance to be effective 6/2/2022.

Filed Date: 3/2/22.

Accession Number: 20220302-5149.

Comment Date: 5 p.m. ET 3/23/22.

Docket Numbers: ER22-1156-000.

Applicants: Midcontinent Independent System Operator, Inc.

Description: Compliance filing: 2022-03-02_MISO-PJM JOA CMP NAESB WEQ Standards Compliance to be effective 6/2/2022.

Filed Date: 3/2/22.

Accession Number: 20220302-5155.

Comment Date: 5 p.m. ET 3/23/22.

Docket Numbers: ER22-1157-000.

Applicants: Southwest Power Pool, Inc.

Description: Compliance filing: Order No. 676-J Compliance Filing Revising the SPP-MISO JOA to be effective 6/2/2022.

Filed Date: 3/2/22.

Accession Number: 20220302-5158.

Comment Date: 5 p.m. ET 3/23/22.

Docket Numbers: ER22-1158-000.

Applicants: Midcontinent Independent System Operator, Inc.

Description: Compliance filing: 2022-03-02_RS 8 Manitoba Hydro MISO Agreement NAESB WEQ Standards Compliance to be effective 6/2/2022.

Filed Date: 3/2/22.

Accession Number: 20220302-5162.

Comment Date: 5 p.m. ET 3/23/22.

Docket Numbers: ER22-1159-000.

Applicants: Midcontinent Independent System Operator, Inc.

Description: Compliance filing: 2022-03-02_MISO-SPP JOA CMP NAESB WEQ Standards Compliance to be effective 6/2/2022.

Filed Date: 3/2/22.

Accession Number: 20220302-5164.

Comment Date: 5 p.m. ET 3/23/22.

Docket Numbers: ER22-1160-000.

Applicants: Midcontinent Independent System Operator, Inc.

Description: Compliance filing: 2022-03-02_RS 46 Minnkota MISO Agreement NAESB WEQ Standards Compliance to be effective 6/2/2022.

Filed Date: 3/2/22.

Accession Number: 20220302-5167.

Comment Date: 5 p.m. ET 3/23/22.

Docket Numbers: ER22-1161-000.

Applicants: ISO New England Inc., Eversource Energy Service Company (as agent), New England Power Company.

Description: Compliance filing: ISO New England Inc. submits tariff filing per 35: Rev. to Schedules 20A and 21 of the ISO-NE Tariff to Comply with Order 676-J to be effective 12/31/9998.

Filed Date: 3/2/22.

Accession Number: 20220302-5174.

Comment Date: 5 p.m. ET 3/23/22.

Docket Numbers: ER22-1162-000.

Applicants: Tucson Electric Power Company.

Description: Compliance filing: Order 676-J Compliance Filing to be effective 12/31/9998.

Filed Date: 3/2/22.

Accession Number: 20220302-5178.

Comment Date: 5 p.m. ET 3/23/22.

Docket Numbers: ER22-1163-000.

Applicants: PJM Interconnection, L.L.C.

Description: Compliance filing: Order No. 676-J Compliance Revisions to JOA between PJM and MISO to be effective 6/2/2022.

Filed Date: 3/2/22.

Accession Number: 20220302-5181.

Comment Date: 5 p.m. ET 3/23/22.

Docket Numbers: ER22-1164-000.

Applicants: UNS Electric, Inc.

Description: Compliance filing: Order 676-J Compliance Filing to be effective 12/31/9998.

Filed Date: 3/2/22.

Accession Number: 20220302-5185.

Comment Date: 5 p.m. ET 3/23/22.

Docket Numbers: ER22-1165-000.

Applicants: PJM Interconnection, L.L.C.

Description: Compliance filing: Order No. 676-J Compliance Revisions to Tariff, Section 4.2 to be effective 6/2/2022.

Filed Date: 3/2/22.

Accession Number: 20220302-5187.

Comment Date: 5 p.m. ET 3/23/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 2, 2022.
Debbie-Anne A. Reese,
Deputy Secretary.

[FR Doc. 2022-04873 Filed 3-7-22; 8:45 am]

BILLING CODE 6717-01-P